DEPARTMENT OF THE TREASURY

Submission for OMB Review; Comment Request

December 19, 2014.

The Department of the Treasury will submit the following information collection requests to the Office of Management and Budget (OMB) for review and clearance in accordance with the Paperwork Reduction Act of 1995, Pub. L. 104-13, on or after the date of publication of this notice.

DATES: Comments should be received on or before January 23, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov. Comments may become part of the public record.

FOR FURTHER INFORMATION CONTACT: Copies of the submission(s) may be obtained by emailing PRA@treasury.gov, calling (202) 622-1295, or viewing the entire information collection request at www.reginfo.gov.

United States Mint

OMB Number: 1525-0013.

Type of Review: Extension without change of a currently approved collection.

Title: Application for Intellectual Property Use (Mint Form 3045).

Form: Form 3045.

Abstract: The application form allows individuals and entities to apply for permissions and licenses to use United States Mint owned or controlled intellectual property.

Affected Public: Businesses or other for-profits.

Estimated Annual Burden Hours: 84.

Brenda Simms,
Treasury PRA Clearance Officer.

[FR Doc. 2014-30185 Filed 12-23-14; 8:45 am]

BILLING CODE 4810-37-P